DEPARTMENT OF JUSTICE

Drug Enforcement Administration

Church of the Living Tree; Denial of Application

On November 4, 1999, the Deputy Assistant Administrator, Office of Diversion Control, Drug Enforcement Administration (DEA) issued an Order to Show Cause to The Church of the Living Tree of Leggett, California, notifying it of an opportunity to show cause as to why DEA should not deny its application for registration as a manufacturer of marijuana, under 21 U.S.C. 823(a), for reason that its intended purpose for the marijuana is not in conformity with the Controlled Substances Act. The order also notified The Church of the Living Tree that should no request for a hearing be filed within 30 days of receipt of the Order to Show Cause, its hearing right would be deemed waived.

DEA received a signed receipt indicating that the Order to Show Cause was received by Mr. John Stahl, the individual who signed the application for registration on behalf of The Church of the Living Tree. The original postal return receipt was postmarked in Leggett, California on November 16, 1999, and the signed receipt was received by DEA on December 1, 1999. No request for a hearing or any other reply was received by the DEA from The Church of the Living Tree or anyone purporting to represent it in this matter. Therefore, the Administrator, finding that (1) 30 days have passed since the receipt of the Order to Show Cause, and (2) no request for a hearing having been received, concludes that The Church of the Living Tree is deemed to have waived its hearing right. After considering material from the investigative file in this matter, the Administrator now enters his final order without a hearing pursuant to 21 CFR 1301.43(d) and (e) and 1301.46.

The Administrator finds that documentation in the file in this matter indicates that The Church of the Living Tree is seeking to manufacture and distribute marijuana for human consumption. Marijuana is a Schedule I controlled substance and as such there is no currently accepted medical use in treatment in the United States. Here it appears that The Church of the Living Tree wants to grow marijuana to be consumed by medical marijuana patients, which is an impermissible use under the Controlled Substances Act. See 21 U.S.C. 812(b)(1), 822(b), and 841(a)(1). Therefore, The Church of the Living Tree's application must be denied.

The Church of the Living Tree did not respond to the Order to Show Cause and consequently did not present any evidence to refute the Government's assertions.

Accordingly, the Administrator of the Drug Enforcement Administration, pursuant to the authority vested in him by 21 U.S.C. 823 and 824 and 0.100(b), hereby orders that the application for registration submitted by The Church of the Living Tree, be, and it hereby is, denied. This order is effective August 18, 2000.

Dated: August 3, 2000.
Donnie R Marshall,
Administrator.

[FR Doc. 00-21006 Filed 8-17-00; 8:45 am]

BILLING CODE 4410-09-M